ENVIRONMENTAL PROTECTION AGENCY

[ER-FRL-6674-8]

Environmental Impacts Statements; Notice of Availability

Responsible Agency: Office of Federal Activities, General Information (202) 564-7167 or http://www.epa.gov/compliance/nepa/.

Weekly receipt of Environmental Impact Statements Filed 04/24/2006 Through 04/28/2006. Pursuant to 40 CFR 1506.9.

EIS No. 20060159, Final EIS, NPS, AK, Denali National Park and Preserve, Draft South Denali Implementation Plan, Matanuska-Susitna Borough, AK,

Wait Period Ends: 06/05/2006, Contact: Miriam Valentine 907-733-9102.

EIS No. 20060160, Draft EIS, BPA, OR, Klondike III Wind Project (300 megawatts {MW}) and Biglow Canyon Wind Farm (400 megawatts {MW}) Intragration Project, Construction and Operation of a Double-Circut 230-Kilovolt (kV) Transmission, Sherman County, OR,

Comment Period Ends: 06/19/2006, Contact: Gene Lynard 503-230-3790.

EIS No. 20060161, Draft EIS, BLM, AK, Kobuk-Seward Pennsula Resource Management Plan, from Point Lay to the North Sound and from the Bering and Chuckchi Ses east to the Kobuk River, AK,

Comment Period Ends: 08/04/2006, Contact: Jeanie Cole 907-474-2340.

EIS No. 20060162, Draft EIS, FHW, 00, TIER 1—DEIS Trans-Texas Corridor—35 (TTC-35) System, Improvement to International, Interstate and Intrastate Movement of Goods and People, Oklakoma-Mexico/Gulf Coast Element,

Comment Period Ends: 06/19/2006, Contact: Salvador Decampo 512-536-5950.

EIS No. 20060163, Third Draft Supplement, COE, CA, American River Watershed Project, Post Authorization Decision Document, Folsom Dam Raise, Folsom Bridge Project, Propose to Construct a Permanent Bridge and Roadway across the American River, City of Folsom, Sacramento County, CA,

Comment Period Ends: 06/21/2006, Contact: Jane Rinck 916-557-6715.

EIS No. 20060164, Draft EIS, AFS, 00, Dakota Prairie Grasslands Noxious Weed Management Project, Implementation, Billings, Slope, Golden Valley, Sioux, Grant, McHenry, Ransom and Richland Counties, ND and Corson, Perkins, and Ziebach Counties, SD,

Comment Period Ends: 06/19/2006, Contact: Brenda Quale 701-250-4443.

EIS No. 20060165, Draft EIS, NPS, CO, Rocky Mountain National Park, Elk and Vegetation Management Plan, Implementation, Grand and Larimer Counties, CO,

Comment Period Ends: 07/04/2006, Contact: Vaughn Baker 970-586-1206.

EIS No. 20060166, Final Supplement, AFS, ID, Mission Brush Project, Additional Information, Proposes Vegetation, Wildlife Habitat, Recreation and Aquatic Improvement Treatments, Idaho Panhandle National Forests, Bonners Ferry Ranger District, Bounty County, ID,

Wait Period Ends: 06/05/2006, Contact: Doug Nishek 208-267-5561.

EIS No. 20060167, Draft EIS, FHW, IL, Illinois Route 29 (FAP 318) Corridor Study, Transportation Improvement from Illinois 6 to Interstate 180, Funding and US Army COE Section 404 Permit, Peoria, Marshall, Putnam and Bureau Counties, IL,

Comment Period Ends: 06/23/2006, Contact: Matt Fuller 217-492-4625.

EIS No. 20060168, Final EIS, FRC, 00, Cove Point Expansion Project, Construction and Operation of a Liquefied Natural Gas (LNG) Import Terminal Expansion and Natural Gas Pipeline Facilities, U.S. Army COE Section 404 Permit, Docket Nos. CPO5-130-000, CP05-131-000 and CP05-132-00, PA, VA, WV, NY and MD,

Wait Period Ends: 06/05/2006, Contact: Todd Sedmak 1-866-208-3372.

EIS No. 20060169, Final EIS, FRC, 00, Crown Landing Liquefied Natural Gas Terminal, Construct and Operate in Gloucester County, NJ and New Castle County, DE; and Logan Lateral Project, Construct and Operate a New Natural Gas Pipeline and Ancillary Facilities in Gloucester County, NJ and Delaware, PA,

Wait Period Ends: 06/05/2006, Contact: Todd Sedmak 1-866-208-3372

Amended Notices

EIS No. 20060140, Final EIS, FHW, KS, Withdrawn—Adoption—Kansas Highway 10 (commonly Known as South Lawrence Trafficway), Relocation, Issuance of U.S. Army COE Section 404 Permit, Lawrence City, Douglas County, KS,

Wait Period Ends: 05/31/2006, Contact: Wendall L. Meyer 785-228-2544.

Revision of FR Notice Published 04/21/2006. Officially withdrawn by the Preparing Agency.

Dated: May 2, 2006.
Robert W. Hargrove,
Director, NEPA Compliance Division, Office of Federal Activities.

[FR Doc. E6-6859 Filed 5-4-06; 8:45 am]

BILLING CODE 6560-50-P